DEPARTMENT OF COMMERCE

International Trade Administration

University of Puerto Rico at Mayaguez, et al., Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 06-002. Applicant: University of Puerto Rico at Mayaguez. Instrument: Electron Microscope, Model JEM-2010. Manufacturer: JEOL, Ltd., Japan. Intended Use: See notice at 71 FR 10650, March 2, 2006. Order Date: 2/11/05.

Docket Number: 06-003. Applicant: Oklahoma State University, Stillwater, OK. Instrument: Electron Microscope, Model JEM-2100F. Manufacturer: JEOL, Ltd., Japan. Intended Use: See notice at 71 FR 10650, March 2, 2006. Order Date: 12/13/05.

Docket Number: 06-004. Applicant: University of North Texas . Instrument: Electron Microscope, Model Technai G2 F20 S-TWIN. Manufacturer: FEI Company, The Netherlands. Intended Use: See notice at 71 FR 10650, March 2, 2006. Order Date: 8/4/04.

Docket Number: O6-005. Applicant: University of Maryland, College Park, MD. Instrument: Electron Microscope, Model JEM-2100F. Manufacturer: JEOL, Ltd., Japan. Intended Use: See notice at 71 FR 10650, March 2, 2005. Order Date: 4/13/05.

Comments: None received. Decision: Approved. No instrument of equivalent scientific value to the foreign instrument, for such purposes as these instruments are intended to be used, was being manufactured in the United States at the time the instruments were ordered. Reasons: Each foreign instrument is an electron microscope and is intended for research or scientific educational uses. We know of no electron microscope, or any other instrument suited to these purposes, which was being manufactured in the United States either at the time of order of each instrument OR at the time of receipt of application by U.S. Customs and Border Protection.

Gerald A. Zerdy,
Program Manager, Statutory Import Programs Staff.

[FR Doc. E6-5194 Filed 4-7-06; 8:45 am]

Billing Code: 3510-DS-S